DEPARTMENT OF LABOR

Employment and Training Administration

Workforce Investment Act (WIA) Financial Reporting Requirements for the National Emergency Grants (NEG) Program, Under Title I of the Act

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. ETA is soliciting comments concerning the proposed extension to the financial reporting requirements for the WIA National Emergency Grants Program.

DATES: Written comments must be submitted to the office listed in the addressee's section below on or before August 29, 2005.

ADDRESSES: Isabel Danley, Office of Grants and Contract Management, Employment and Training Administration, United States Department of Labor, 200 Constitution Avenue, NW., Room N-4720, Washington, DC, 20210, (202) 693-3047 (this is not a toll-free number), danley.isabel@dol.gov, and/or fax (202) 693-3362.

FOR FURTHER INFORMATION CONTACT: Isabel Danley, Office of Grants and Contract Management, Employment and Training Administration, United States Department of Labor, 200 Constitution Avenue, NW., Washington, DC, 20210, (202) 693-3047 (this is not a toll-free number), danley.isabel@dol.gov, and/or fax (202) 693-3362. Copies of the Paperwork Reduction Act Submission Package may be found at the Web site http://www.doleta.gov/Performance/guidance/OMBControlNumber.cfm.

SUPPLEMENTARY INFORMATION:

I. Background

This proposed information collection notice is requesting an extension to the financial reporting collection format for the WIA National Emergency Grants Program as approved in OMB Notice of Action Number 1205-0434 (ETA Form Number 9099). The basic financial reporting requirements for this program are set forth in Public Law 105-220, dated August 7, 1998, and 20 CFR part 652 et al., Workforce Investment Act (WIA) Final Rules, dated August 11, 2000.

II. Desired Focus of Comments

Currently, the Department is soliciting comments concerning the proposed extension of a currently approved collection of the WIA financial reporting requirements for the National Emergency Grants Program to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information clearance request (ICR) can be obtained directly through the Web site: http://www.doleta.gov/Performance/guidance/OMBControlNumber.cfm or by contacting the office listed above in the addressee section of this notice.

III. Current Actions

Type of Review: Extension of a currently approved collection.

Agency: Employment and Training Administration.

Title: Workforce Investment Act (WIA) Financial Reporting Requirements for National Emergency Grants Program, under Title I of the Act.

OMB Number: 1205-0434.

Agency Numbers: Revision to ETA 9099.

Affected Public: State agencies, local governments, and/or other for profit and non-profit organizations; and consortia of any and/or all of the above.

Total Respondents: 40.

Frequency: Quarterly.

DOL-ETA Reporting Burden for WIA Financial Status Report for National Emergency Grants
| PY 2004: PY 2004 | PY 2004: FY 2005 | PY 2004: Total | PY 2005: PY 2005 | PY 2005: FY 2006 | PY 2005: Total
Average number of reports per entity per quarter | 1 | 1 | 2 | 1 | 1 | 2
Average number of reports per entity per year | 4 | 4 | 8 | 4 | 4 | 8
Average number of hours required for reporting per quarter per report | 1/2 | 1/2 | 1/2 | 1/2 | 1/2 | 1/2
Average number of hours required for reporting per entity per year | 2 | 2 | 4 | 2 | 2 | 4
Number of entities reporting | 40 | 40 | 40 | 40 | 40 | 40
Average number of hours required for reporting burden per year | 80 | 80 | 160 | 80 | 80 | 160
Total burden cost @ $30.22 per hour |  |  | $4835 |  |  | $4835

Note: Reviewer should note that the National Emergency Grants are awarded to States under Master Grant Agreements to fund approved projects within the State, on an on-going, as eligible basis. As reflected on table, PY 2004 grants/projects are funded with PY 2004 and FY 2005 funds. Likewise, PY 2005 grants/projects are funded with PY 2005 and FY 2006 funds. Financial reports are required to be submitted by project for each source of funds received.

It should also be noted that the number of projects per State varies, thus creating the need to average the number of reports per entity per quarter and per year.

The total burden cost was based upon a GS-12, Step 1 salary as calculated from Salary Table 2005-DCB, effective January 2005.

Comments submitted in response to this notice will be summarized and/or included in the request for Office of Management and Budget approval of the ICR; they will become a matter of public record.

Dated: June 23, 2005.
Anna Goddard,
Administrator, Office of Financial and Administrative Management, Employment and Training Administration, Department of Labor.

[FR Doc. 05-12825 Filed 6-28-05; 8:45 am]

BILLING CODE 4510-30-P